DEPARTMENT OF JUSTICE

Notice of Lodging of Partial Consent Decree Under the Comprehensive Environmental Response, Compensation, and Liability Act

Under 28 CFR 50.7, notice is hereby given that on January 27, 2004, a proposed Amended Consent Decree in United States v. Central Maine Power Company, Civil Action No. 90-302B, was lodged with the United States District Court for the District of Maine.

On September 3, 1991, the United States District Court for the District of Maine entered a Consent Decree between the United States and Central Maine Power Company (“CMP”). In the Consent Decree, CMP agreed to perform the remedy selected in a 1989 Record of Decision (“1989 ROD”) for the F. O'Connor Superfund Site (“Site”). Subsequently discovered conditions at the Site resulted in a determination by the United States Environmental Protection Agency (“EPA”) and the Maine Department of Environmental Protection (“Maine DEP”), that it would be technically impracticable to restore the groundwater at the Site to drinking water standards within a reasonable period of time.

Following issuance of a proposed plan and public comment period, EPA signed a 2002 Record of Decision Amendment (“2002 ROD Amendment”) to address the changes to the 1989 ROD. The 2002 ROD Amendment included active and passive oil recovery, long-term groundwater monitoring, a five-year review, and a restrictive covenant between CMP and the Maine DEP which prevents use of the Site groundwater. The 2002 ROD amendment also addressed minor changes and clarifications to the original 1989 remedy for source control. With necessary changes in the remedy, EPA is amending the 1991 Consent Decree and its Appendix II, Remedial Design/Remedial Action Statement of Work to make these documents consistent with the changes, and provide enforcement for these changes. The proposed Amendment to Consent Decree provides for completion of remedial activities at the Site and preserves recovery of EPA's future oversite costs.

The Department of Justice will receive for a period of thirty (30) days from the date of this publication comments relating to the proposed Amendment to Consent Decree. Comments should be addressed to the Assistant Attorney General, Environment and Natural Resources Division, P.O. Box 7611, U.S. Department of Justice, Washington, DC 20044—7611, and should refer to United States v. Central Maine Power Company, Civil Action No. 90-302 B, D.J. Ref. 90-11-2-544.

The Amendment to Consent Decree may be examined at the Office of the United States Attorney for the District of Maine, P.O. Box 9718, Portland, Maine 04104-5018 and at U.S. EPA Region I, 1 Congress Street, Suite 1100, Boston, Massachusetts 02114-2023. During the public comment period, the Amendment to Consent Decree may also be examined on the following Department of Justice Web site, http://www.usdoj.gov/enrd/open.html. A copy of the Amendment to Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy of the proposed Amendment to Consent Decree, please enclose a check payable to the U.S. Treasury for $30.50 for reproduction costs (at 25 cents per page).

Ronald Gluck,
Assistant Chief, Environmental Enforcement Section, Environment and Natural Resources Division.

[FR Doc. 04-2318 Filed 2-4-04; 8:45 am]

BILLING CODE 4410-15-M